DEPARTMENT OF THE INTERIOR

Fish and Wildlife Service

[FWS-R4-ES-2018-N092; FXES11120400000-134-FF04EF2000]

Endangered and Threatened Wildlife and Plants; Availability of Proposed Low-Effect Habitat Conservation Plan for Florida Scrub-Jay; Sarasota County, Florida

AGENCY: Fish and Wildlife Service, Interior.

ACTION: Notice of availability; request for comment/information.

SUMMARY: We, the Fish and Wildlife Service (Service), have received an application for an incidental take permit (ITP) under the Endangered Species Act. Residential Development Corporation (applicant) is requesting a 2-year ITP for take of the Florida scrub-jay. We request public comment on the permit application, which includes a proposed habitat conservation plan (HCP), and our preliminary determination that the HCP qualifies as low effect under the National Environmental Policy Act (NEPA). To make this determination, we used our environmental action statement and low-effect screening form, which are also available for review.

DATES: We must receive written comments on or before September 12, 2018.

ADDRESSES: Obtaining Documents for Review:

• U.S. mail: You may obtain a copy of the ITP application and HCP by writing to the South Florida Ecological Services Office, Attn: Permit number TE84046C-0, U.S. Fish and Wildlife Service, 1339 20th Street, Vero Beach, FL 32960-3559.

• In-Person Review: The ITP application and HCP are available for public inspection by appointment during normal business hours at the above address. Call the contact in FOR FURTHER INFORMATION CONTACT to make an appointment. See Public Comments under SUPPLEMENTARY INFORMATION for information on how to submit your comments.

FOR FURTHER INFORMATION CONTACT: Mr. Adam Knutson, Fish and Wildlife Biologist, South Florida Ecological Services Office (see ADDRESSES); telephone: 772-469-4252.

SUPPLEMENTARY INFORMATION: We, the Fish and Wildlife Service (Service), have received an application for an ITP under the Endangered Species Act of 1973, as amended (ESA; 16 U.S.C. 1531 et seq.). Residential Development Corporation (applicant) is requesting a 2-year ITP for take of the federally listed Florida scrub-jay (Aphelocoma coerulescens) (scrub-jay). We request public comment on the permit application, which includes a proposed HCP, and our preliminary determination that the HCP qualifies as low effect under the NEPA. To make this determination, we used our environmental action statement and low-effect screening form, which are also available for review.

Public Comments

Submitting Comments

If you wish to comment on the ITP application and HCP, you may submit comments by any one of the following methods:

• Email: Adam_Knutson@fws.gov. Use Attn: Permit number “TE84046C-0” as your message subject line.

• Fax: Adam Knutson, 772-562-4288, Attn.: Permit number “TE84046C-0”.

• U.S. mail: Adam Knutson, South Florida Ecological Services Field Office, Attn: Permit number “TE84046C-0,” U.S. Fish and Wildlife Service, 1339 20th Street, Vero Beach, FL 32960-3559.

• In-person drop-off: You may drop off comments or request information during regular business hours at the above office address.

Public Availability of Comments

Before including your address, phone number, email address, or other personal identifying information in your comments, you should be aware that your entire comment—including your personal identifying information—may be made publicly available at any time. While you can ask us in your comment to withhold your personal identifying information from public review, we cannot guarantee that we will be able to do so.

Applicant's Proposed Project

We received an application for an ITP, along with a proposed HCP. The applicant requests a 2-year permit under section 10(a)(1)(B) of the ESA (16 U.S.C. 1531 et seq.). If we issue the permit, the applicant anticipates taking 1.41 acres of scrub-jay breeding, feeding, and sheltering habitat for construction of six single-family residences and associated infrastructure in North Port, Sarasota County, Florida.

The applicant proposes to mitigate for the loss of 1.41 acres of occupied scrub-jay habitat through the purchase of 2.82 credits from a Service-approved conservation bank within 30 days of permit issuance.

Our Preliminary Determination

The Service has made a preliminary determination that the applicant's project, including the proposed mitigation and minimization measures, will individually and cumulatively have a minor or negligible effect on the species covered in the HCP. Therefore, issuance of the ITP is a “low-effect” action and qualifies as a categorical exclusion under the National Environmental Policy Act (NEPA), as provided by 43 CFR 46.205 and 46.210. A low-effect HCP is one involving; (1) minor or negligible effects on federally listed, proposed, and candidate species and their habitats; (2) minor or negligible effects on other environmental values or resources; and (3) impacts when, considered together with the impacts of other past, present, and reasonably foreseeable similarly situated projects, would not result over time in cumulative effects to environmental values or resources that would be considered significant.

Next Steps

We will evaluate the HCP and comments we receive to determine whether the ITP application meets the requirements of section 10(a)(1)(B) of the ESA. We will also conduct an intra-Service consultation to evaluate take of the scrub-jay in accordance with section 7 of the ESA. We will use the results of the consultation, in combination with the above findings, in our analysis of whether or not to issue the ITP. If the requirements are met we will issue ITP number TE84046C-0 to the applicant.

Authority

We provide this notice under Section 10 of the ESA (16 U.S.C. 1531 et seq.) and NEPA regulations (40 CFR 1506.6).

Roxanna Hinzman,
Field Supervisor, South Florida Ecological Services Office.

[FR Doc. 2018-17325 Filed 8-10-18; 8:45 am]

BILLING CODE 4333-15-P